DEPARTMENT OF ENERGY

Federal Energy Regulatory Commission

[Project No. 7883-020]

Powerhouse Systems, Inc.; Notice of Technical Conference

On Wednesday, November 15, 2023, Commission staff will hold a technical conference to provide clarification to Powerhouse Systems, Inc (Powerhouse) regarding the Exhibit F Supporting Design Report (SDR), for the Weston Dam Hydroelectric Project No. 7883.

The conference will be held via teleconference beginning at 10:30 a.m. eastern standard time. Discussion topics for the technical conference include: (1) the information provided in the Powerhouse's Exhibit F SDR filed on October 2, 2023; and (2) information required to provide an updated SDR that meets Commission regulations.

All local, State, and Federal agencies, Indian Tribes, and other interested parties are invited to participate. There will be no transcript of the conference, but a summary of the meeting will be prepared for the project record. If you are interested in participating in the meeting you must contact John Baummer at (202) 502-6837 or john.baummer@ferc.gov by November 10, 2023 to receive specific instructions on how to participate.

Dated: November 1, 2023.
Debbie-Anne A. Reese,
Deputy Secretary.

[FR Doc. 2023-24589 Filed 11-6-23; 8:45 am]

BILLING CODE 6717-01-P